DEPARTMENT OF THE TREASURY

Community Development Financial Institutions Fund: Open Meeting of the Community Development Advisory Board

AGENCY: Community Development Financial Institutions Fund, Department of the Treasury.

ACTION: Notice of open meeting.

SUMMARY: This notice announces the next meeting of the Community Development Advisory Board (the Advisory Board), which provides advice to the Director of the Community Development Financial Institutions Fund (the CDFI Fund).

DATES: The next meeting of the Advisory Board will be held from 9 a.m. to 5 p.m. Eastern Time on Monday, November 16, 2009.

ADDRESSES: The Advisory Board meeting will be held in the Cash Room at the U.S. Department of the Treasury located at 1500 Pennsylvania Avenue, NW., Washington, DC 20005.

FOR FURTHER INFORMATION, CONTACT: The CDFI Fund's Office of Legislative and External Affairs, 601 Thirteenth Street, NW., Suite 200 South, Washington, DC 20005, (202) 622-8042 (this is not a toll-free number). Other information regarding the CDFI Fund and its programs may be obtained through the Fund's Web site at http://www.cdfifund.gov.

SUPPLEMENTARY INFORMATION: Section 104(d) of the Community Development Banking and Financial Institutions Act of 1994 (12 U.S.C. 4703(d)) established the Advisory Board. The charter for the Advisory Board has been filed in accordance with the Federal Advisory Committee Act, as amended (5 U.S.C. App.), and with the approval of the Secretary of the Treasury.

The function of the Advisory Board is to advise the Director of the Fund (who has been delegated the authority to administer the Fund) on the policies regarding the activities of the Fund. The Advisory Board shall not advise the Fund on the granting or denial of any particular application for monetary or non-monetary awards. The Advisory Board shall meet at least annually.

It has been determined that this document is not a major rule as defined in Executive Order 12291 and therefore regulatory impact analysis is not required. In addition, this document does not constitute a rule subject to the Regulatory Flexibility Act (5 U.S.C. Chapter 6).

The next meeting of the Advisory Board, all of which will be open to the public, will be held in the Cash Room at the U.S. Department of the Treasury located at 1500 Pennsylvania Avenue, NW., Washington, DC 20005, from 9 a.m. to 5 p.m. Eastern Time on Monday, November 16, 2009. The room will accommodate up to 50 members of the public. Seats are available to members of the public on a first-come, first-served basis.

Participation in the discussions at the meeting will be limited to Advisory Board members, Department of the Treasury staff, and certain invited guests. Because the meeting will be held in a secured Federal building, members of the public who desire to attend the meeting must contact the CDFI Fund's Office of Legislative and External Affairs by 5 p.m. Eastern Time on Wednesday, November 11, 2009 by e-mail at AdvisoryBoard@cdfi.treas.gov, to inform the CDFI Fund of your desire to attend the meeting and to provide the following information which is required to facilitate your entry to the facility: Name as it appears on a government issued identification; date of birth; and social security number.

Anyone who would like to have the Advisory Board consider a written statement must submit it to the CDFI Fund's Office of Legislative and External Affairs by 5 p.m. Eastern Time on Wednesday, November 11, 2009 by mail to 601 Thirteenth Street, NW., Suite 200 South, Washington, DC 20005, or by e-mail at AdvisoryBoard@cdfi.treas.gov.

The Advisory Board meeting will include a report from the Director on the activities of the Fund since the last Advisory Board meeting, as well as policy, programmatic, fiscal and legislative initiatives for the years 2009 and 2010.

Authority: 12 U.S.C. 4703; Chapter X, Pub. L. 104-19, 109 Stat. 237.

Dated: October 28, 2009.
Donna J. Gambrell,
Director, Community Development Financial Institutions Fund.

[FR Doc. E9-26365 Filed 11-2-09; 8:45 am]

BILLING CODE 4810-70-P